ENVIRONMENTAL PROTECTION AGENCY

[FRL-9985-50-Region 2]

Notice of Approval and Opportunity for Public Comment and Public Hearing for Public Water System Supervision Program Revision for New Jersey

AGENCY: Environmental Protection Agency (EPA).

ACTION: Notice.

SUMMARY: Public notice is hereby given that the state of New Jersey has revised its approved Public Water System Supervision Program. New Jersey has adopted drinking water regulations for the Revised Total Coliform Rule. The EPA has determined that New Jersey's Revised Total Coliform Rule meets all minimum federal requirements, and that it is no less stringent than the corresponding federal regulation. Therefore, the EPA has decided to approve the State program revisions. All interested parties may request a public hearing or submit comments.

DATES: Comments or request for public hearing must be received on or before November 15, 2018.

ADDRESSES: Comments or a request for a public hearing must be submitted to the Regional Administrator, U.S. Environmental Protection Agency, Region 2, 290 Broadway, FL 24, New York, NY 10007.

All documents relating to this determination are available for inspection between the hours of 8:00 a.m. and 3:00 p.m., Monday through Friday, at the following offices: U.S. Environmental Protection Agency, Region 2, Clean Water Division, 290 Broadway, FL 24, New York, NY 10007-1823; and New Jersey Department of Environmental Protection, Division of Water Supply & Geoscience, 401 East State St., Trenton, NJ 08608.

FOR FURTHER INFORMATION CONTACT: Daniel D'Agostino, Clean Water Division, Drinking Water and Groundwater Protection Section (24W-058), Environmental Protection Agency, Region 2, 290 Broadway, FL 24, New York, NY 10007-1823; telephone number: 212-637-3805; email address: DAgostino.Daniel@epa.gov.

SUPPLEMENTARY INFORMATION: All interested parties are invited to submit written comments on this determination and may request a hearing. All comments will be considered, and if necessary EPA will issue a response. Frivolous or insubstantial requests for a hearing will be denied by the Regional Administrator. If a substantial request for a public hearing is made by November 15, 2018, a public hearing will be held. A request for public hearing shall include the following: (1) The name, address, and telephone number of the individual, organization, or other entity requesting a hearing; (2) a brief statement of the requesting person's interest in the Regional Administrator's determination and of information that the requesting person intends to submit at such hearing; and (3) the signature of the individual making the request; or, if the request is made on behalf of an organization or other entity, the signature of a responsible official of the organization or other entity.

Authority: Section 1413 of the Safe Drinking Water Act, as amended (1996), and 40 CFR part 142 of the National Primary Drinking Water Regulations.

Dated: October 1, 2018.
Peter D. Lopez,
Regional Administrator, Region 2.

[FR Doc. 2018-22488 Filed 10-15-18; 8:45 am]

BILLING CODE 6560-50-P